DEPARTMENT OF THE INTERIOR

National Park Service

[NPS-WASO-NRNHL-DTS#-27506; PPWOCRADI0, PCU00RP14.R50000]

National Register of Historic Places; Notification of Pending Nominations and Related Actions

AGENCY: National Park Service, Interior.

ACTION: Notice.

SUMMARY: The National Park Service is soliciting comments on the significance of properties nominated before March 16, 2019, for listing or related actions in the National Register of Historic Places.

DATES: Comments should be submitted by April 16, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 16, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

WEST VIRGINIA

Barbour County

Golden Rule, The 122 Crim Avenue, Belington, SG100003667

Ohio County

South Wheeling Historic District, Roughly bounded by WV 2, 31st, 41st & Chapline Sts., Wheeling, SG100003668

Roane County

McWhorter, Honorable Joseph Marcellus, House 412 Church St., Spencer, SG100003669

A request for removal has been made for the following resources:

GEORGIA

Baldwin County

Old State Prison Building, 3 mi. (4.8 km) W of Milledgeville on GA 22, Milledgeville vicinity, OT79000694

Fulton County

Western and Atlantic Railroad Zero Milepost, Central Ave. between Wall St. and Railroad Ave., Atlanta, OT77000435

Gwinnett County

Hudson—Nash House and Cemetery, 3490 Five Forks Trickum Rd., Lilburn, OT89002264

Additional documentation has been received for the following resources:

VIRGINIA

Bath County

Warm Springs Bathhouses, NE of Warm Springs off Rt. 220, Warm Springs vicinity, AD69000222

Hanover County

Ashland Historic District Center, Racecourse, James, Howard, Clay Sts., Hanover and Railroad Aves., Ashland, AD83003284

Norfolk Independent City

Christ and St. Luke's Church, 560 W Olney Rd., Norfolk, AD79003286

St. Mary's Church, 232 Chapel St., Norfolk, AD79003287

Prince William County

Buckland Historic District, 7980—8205 Buckland Mill Rd. and 16206, 16208, 16210, and 16211 Lee Hwy., Buckland, AD88000681

Authority: Section 60.13 of 36 CFR part 60.

Dated: March 19, 2019.
Kathryn G. Smith,
Acting Chief, National Register of Historic Places/National Historic Landmarks Program.

[FR Doc. 2019-06208 Filed 3-29-19; 8:45 am]

BILLING CODE 4312-52-P